FEDERAL COMMUNICATIONS COMMISSION

Sunshine Act Meeting; Open Commission Meeting

January 8, 2004.

The Federal Communications Commission will hold an Open Meeting on the subjects listed below on Thursday, January 15, 2004, which is scheduled to commence at 9:30 a.m. in Room TW-C305, at 445 12th Street SW., Washington, DC. The Meeting will focus on presentations by senior agency officials regarding implementations of the agency's strategic plan and a comprehensive review of FCC policies and procedures.

Presentations will be made in five panels:

Panel One will feature the Managing Director and the Chief of the Office of Strategic Planning and Policy Analysis in a joint presentation.

Panel Two will feature the Chiefs of the Enforcement Bureau and the Consumer and Governmental Affairs Bureau.

Panel Three will feature the Chiefs of the Office of Engineering and Technology, the Wireless Telecommunications Bureau, and the International Bureau.

Panel Four will feature the General Counsel and the Director of the Office of Communications Business Opportunities.

Panel Five will feature the Chiefs of the Wireline Competition Bureau and the Media Bureau.

Additional information concerning this meeting may be obtained from Audrey Spivack or David Fiske, Office of Media Relations, (202) 418-0500; TTY 1-888-835-5322.

Audio/Video coverage of the meeting will be broadcast live over the Internet from the FCC's Audio/Video Events web page at http://www.fcc.gov/realaudio.

For a fee this meeting can be viewed live over George Mason University's Capitol Connection. The Capitol Connection also will carry the meeting live via the Internet. To purchase these services call (703) 993-3100 or go to http://www.capitolconnection.gmu.edu. Audio and video tapes of this meeting can be purchased from CACI Productions, 341 Victory Drive, Herndon, VA 20170, (03) 834-1470, Ext. 19; Fax (703) 834-0111.

Copies of materials adopted at this meeting can be purchased from the FCC's duplicating contractor, Qualex International (202) 863-2893; Fax (202) 863-2898; TTY (202) 863-2897. These copies are available in paper format and alternative media, including large print/type; digital disk; and audio tape. Qualex International may be reached by e-mail at Qualexint@aol.com.

Federal Communications Commission.
Marlene H. Dortch,
Secretary.

[FR Doc. 04-863 Filed 1-9-04; 5:13 pm]

BILLING CODE 6712-01-P